SMALL BUSINESS ADMINISTRATION

[Disaster Declaration #11886 and #11887]

Georgia Disaster # GA-00027

AGENCY: U.S. Small Business Administration.

ACTION: Notice.

SUMMARY: This is a Notice of the Presidential declaration of a major disaster for the State of Georgia (FEMA-1858-DR), dated 09/24/2009.

Incident: Severe Storms and Flooding.

Incident Period: 09/18/2009 and continuing.

DATES: Effective Date: 09/24/2009.

Physical Loan Application Deadline Date: 11/23/2009.

Economic Injury (EIDL) Loan Application Deadline Date: 06/24/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 09/24/2009, applications for disaster loans may be filed at the address listed above or other locally announced locations.

The following areas have been determined to be adversely affected by the disaster:

Primary Counties (Physical Damage and Economic Injury Loans):

Cherokee, Cobb, Douglas, Paulding.

Contiguous Counties (Economic Injury Loans Only):

Georgia: Bartow, Carroll, Dawson, Forsyth, Fulton, Gordon, Haralson, Pickens, Polk.

The Interest Rates are:

| Percent
For Physical Damage:
Homeowners With Credit Available Elsewhere | 5.500
Homeowners Without Credit Available Elsewhere | 2.750
Businesses With Credit Available Elsewhere | 6.000
Other (Including Non-Profit Organizations) With Credit Available Elsewhere | 4.500
Businesses and Non-Profit Organizations Without Credit Available Elsewhere | 4.000
For Economic Injury:
Businesses & Small Agricultural Cooperatives Without Credit Available Elsewhere | 4.000

The number assigned to this disaster for physical damage is 118866 and for economic injury is 118870.

(Catalog of Federal Domestic Assistance Numbers 59002 and 59008)

Lisa Lopez-Suarez,
Acting Associate Administrator for Disaster Assistance.

[FR Doc. E9-23714 Filed 10-1-09; 8:45 am]

BILLING CODE 8025-01-P